DEPARTMENT OF TRANSPORTATION

National Highway Traffic Safety Administration

[Docket No. NHTSA-2015-0078; Notice 1]

Bridgestone Americas Tire Operations, LLC, Receipt of Petition for Decision of Inconsequential Noncompliance

AGENCY: National Highway Traffic Safety Administration (NHTSA), Department of Transportation (DOT).

ACTION: Receipt of Petition.

SUMMARY: Bridgestone Americas Tire Operations, LLC (BATO), has determined that certain Bridgestone bus tires do not fully comply with paragraph S6.5(e) of Federal Motor Vehicle Safety Standard (FMVSS) No. 119, New Pneumatic Tires for Motor Vehicles with a GVWR of more than 4,536 kilograms (10,000 pounds) and Motorcycles. BATO has filed an appropriate report dated July 7, 2015, pursuant to 49 CFR part 573, Defect and Noncompliance Responsibility and Reports.

DATES: The closing date for comments on the petition is November 2, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. Overview: Pursuant to 49 U.S.C. 30118(d) and 30120(h) (see implementing rule at 49 CFR part 556), BATO submitted a petition for an exemption from the notification and remedy requirements of 49 U.S.C. Chapter 301 on the basis that this noncompliance is inconsequential to motor vehicle safety.

This notice of receipt of BATO's petition is published under 49 U.S.C. 30118 and 30120 and does not represent any agency decision or other exercise of judgment concerning the merits of the petition.

II. Tires Involved: Affected are approximately 328 Bridgestone R192GZ size 12R22.5 bus tires sold in the U.S. territory of Guam and manufactured between January 1, 2004 and April 30, 2015.

III. Noncompliance: BATO explains that the noncompliance is that the sidewall of the subject tires clearly states the speed restriction in km/h, however, omits the English units in mph as required by paragraph S6.5(e) of FMVSS No. 119.

IV. Rule Text: Paragraph S6.5 of FMVSS No. 121 requires in pertinent part:

S6.5 Tire Markings. Except as specified in this paragraph, each tire shall be marked on each sidewall with the information specified in paragraphs (a) through (j) of this section . . .

(e) The speed restriction of the tire, if 90 km/h (55 mph) or less, shown as follows:

Max speed __km/h (__mph).

V. Summary of BATO's Petition: BATO believes that the subject noncompliance is inconsequential to motor vehicle safety. BATO states that Guam does not have interstate highways and that the speed limits throughout Guam (35 mph rural, 15 mph urban and 15-25 in school zones) are significantly lower than the speed restriction of the subject tires (55 mph), thus, BATO, believes that there is no risk of drivers consistently driving faster than the speed restriction on the tires, even if a driver is unfamiliar with metric units.

BATO also believes that most professional drivers would understand the speed restriction as stated in metric units. Since the subject tires cannot be used in a passenger vehicle application, and will be serviced and driven by professionals who understand the difference between English and metric units; it is unlikely an unqualified driver would mistakenly drive these tires faster than the speed restriction.

BATO notes that they have not received any complaints, claims, or warranty adjustments related to the subject tires and that these tires, meet all other performance requirements of FMVSS No. 119.

BATO has additionally informed NHTSA that it has corrected the noncompliance so that all future production of the subject tires complies with FMVSS No. 119.

In summation, BATO believes that the described noncompliance of the subject tires is inconsequential to motor vehicle safety, and that its petition, to exempt BATO from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that BATO no longer controlled at the time it determined that the noncompliance existed. However, any decision on this petition does not relieve equipment distributors and dealers of the prohibitions on the sale, offer for sale, or introduction or delivery for introduction into interstate commerce of the noncompliant tires under their control after BATO notified them that the subject noncompliance existed.

Authority: (49 U.S.C. 30118, 30120: delegations of authority at 49 CFR 1.95 and 501.8)

Jeffrey Giuseppe,
Director, Office of Vehicle Safety Compliance.

[FR Doc. 2015-25067 Filed 10-1-15; 8:45 am]

BILLING CODE 4910-59-P